DEPARTMENT OF COMMERCE

National Oceanic and Atmospheric Administration

[RTID 0648-XB469]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of the Snapper Grouper Advisory Panel (AP) October 19-21, 2021.

DATES: The Snapper Grouper AP will meet from 1:30 p.m. until 4:30 p.m. on October 19, 2021; from 9 a.m. until 4 p.m. on October 20, 2021; and 9 a.m. until 12 p.m. on October 21, 2021.

ADDRESSES:

Meeting address: The meeting will be held via webinar.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The AP meeting is open to the public and will be available via webinar as it occurs. Registration is required. Webinar registration information, a public comment form, and other meeting materials will be posted to the Council's website at: http://safmc.net/safmc-meetings/current-advisory-panel-meetings/ as it becomes available.

The Snapper Grouper AP will discuss and provide recommendations on the following topics: Management options for golden tilefish, red snapper, and gag grouper in response to recent or upcoming stock assessments; impacts of current commercial permit provisions; management actions considered for snowy grouper through Snapper Grouper Amendment 51; actions considered for yellowtail snapper through Snapper Grouper Amendment 44; modifications to vermilion snapper commercial trip limits; and holistic management strategies for the entire snapper grouper fishery. In addition, the AP will provide information to develop a Fishery Performance Report for gray triggerfish. The AP will also receive updates on Snapper Grouper Amendment 50 considering revised catch levels and management measures for red porgy, Snapper Grouper Amendment 49 considering revised catch levels and management measures for greater amberjack and removal of recreational annual catch targets, Snapper Grouper Amendment 48 addressing modernization of the Wreckfish Individual Transferable Quota (ITQ) program and revised objectives for the Snapper Grouper Fishery Management Plan, East Coast Climate Change Scenario Planning, South Atlantic Southeast Data Assessment and Review (SEDAR) stock assessment projects, the Council's Citizen Science Program initiatives, and other items as needed.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: September 27, 2021.
Tracey L. Thompson,
Acting Deputy Director, Office of Sustainable Fisheries, National Marine Fisheries Service.

[FR Doc. 2021-21333 Filed 9-29-21; 8:45 am]

BILLING CODE 3510-22-P